DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker license are canceled without prejudice.

Name | License # | Issuing port
Paul T. Kimoto | 04831 | Honolulu.
Air Express International Agency, Inc | 3024 & 03016 | New York.
Columbia Shipping Inc. | 12259 | San Francisco.
Dateline Forwarding Services Inc. | 13276 | Atlanta.
Jacky Maeder, Ltd. | 10446 | San Francisco.
Celadon-Jacky Maeder Co., | 14412 | San Francisco.

Dated: May 26, 2004.
Jayson P. Ahern,
Assistant Commissioner, Office of Field Operations.

[FR Doc. 04-12534 Filed 6-2-04; 8:45 am]

BILLING CODE 4820-02-P